DEPARTMENT OF HEALTH AND HUMAN SERVICES

Administration for Children and Families

State Median Income Estimates for Four-Person Families (FFY 2002); Notice of the Federal Fiscal Year (FFY) 2002 State Median Income Estimates for Use Under the Low Income Home Energy Assistance Program (LIHEAP) Administered by the Administration for Children and Families, Office of Community Services, Division of Energy Assistance

AGENCY: Office of Community Services, ACF, DHHS.

ACTION: Notice of estimated State median income for FFY 2002—Correction.

SUMMARY: This notice announces the estimated median income for four-person families in each State and the District of Columbia for FFY 2002 (October 1, 2001 to September 30, 2002). This notice corrects a notice published on Wednesday, March 7, 2001 (66 FR 13767) which erroneously contained estimated median incomes for FFY 2001. LIHEAP grantees may adopt the FFY 2002 State median income estimates beginning with the date of this publication of the estimates in the Federal Register or at a later date as discussed below. This means that LIHEAP grantees could choose to implement this notice during the period between the heating and cooling seasons. However, by October 1, 2001, or by the beginning of a grantee's fiscal year, whichever is later, LIHEAP grantees using State median income estimates must adjust their income eligibility criteria to be in accord with the FFY 2002 State median income estimates.

This listing of estimated State median incomes concerns maximum income levels for households to which LIHEAP grantees may make payments under LIHEAP.

EFFECTIVE DATE: The estimates are effective at any time between the date of this publication and October 1, 2001, or by the beginning of a LIHEAP grantee's fiscal year, whichever is later.

FOR FURTHER INFORMATION CONTACT: Leon Litow, Administration for Children and Families, HHS, Office of Community Services, Division of Energy Assistance, 5th Floor West 370 L'Enfant Promenade, SW., Washington, D.C. 20447, Telephone: (202) 401-5304, E-Mail: llitow@acf.dhhs.gov.

SUPPLEMENTARY INFORMATION: Under the provisions of section 2603(7) of Title XXVI of the Omnibus Budget Reconciliation Act of 1981 (Pub. L. 97-35, as amended), we are announcing the estimated median income of a four-person family for each state, the District of Columbia, and the United States for FFY 2002 (the period of October 1, 2001, through September 30, 2002).

Section 2605(b)(2)(B)(ii) of the LIHEAP statute provides that 60 percent of the median income for each state, as annually established by the Secretary of the Department of Health and Human Services, is one of the income criteria that LIHEAP grantees may use in determining a household's eligibility for LIHEAP.

LIHEAP is currently authorized through the end of FFY 2004 by the Coats Human Services Reauthorization Act of 1998, Pub. L. 105-285, which was enacted on October 27, 1998.

Estimates of the median income of four-person families for each State and the District of Columbia for FFY 2002 have been developed by the Bureau of the Census of the U.S. Department of Commerce, using the most recently available income data. In developing the median income estimates for FFY 2002, the Bureau of the Census used the following three sources of data: (1) the March 2000 Current Population Survey; (2) the 1990 Decennial Census of Population; and (3) 1999 per capita personal income estimates, by state, from the Bureau of Economic Analysis (BEA) of the U.S. Department of Commerce.

Like the estimates for FFY 2001, the FFY 2002 estimates include income estimates from the March Current Population Survey that are based on population controls from the 1990 Decennial Census of Population. Income estimates prior to FFY 1996 from the March Current Population Survey had been based on population controls from the 1980 Decennial Census of Population. Generally, the use of 1990 population controls results in somewhat lower estimates of income.

In 1999, BEA revised its methodology in estimating per capita personal income estimates. BEA's revised methodology is reflected in the FFY 2002 state 4-person family median income estimates. Generally, the revised methodology decreased, on average, state median income estimates by about 0.04 percent. For further information on the estimating method and data sources, contact the Housing and Household Economic Statistics Division, at the Bureau of the Census (301-457-3243).

A state-by-state listing of median income, and 60 percent of median income, for a four-person family for FFY 2002 follows. The listing describes the method for adjusting median income for families of different sizes as specified in regulations applicable to LIHEAP, at 45 CFR 96.85(b), which was published in the Federal Register on March 3, 1988 at 53 FR 6824.

Dated: March 16, 2001.
Robert Mott,
Acting Director, Office of Community Services.

Estimated State Median Income for 4-Person Families, by State, Federal Fiscal Year 2002 ¹
States | Estimated state median income 4-person families ² | 60 Percent of estimated state median income 4-person families
Alabama | $52,405 | $31,443
Alaska | 70,294 | 42,176
Arizona | 53,041 | 31,825
Arkansas | 46,671 | 28,003
California | 63,100 | 37,860
Colorado | 62,860 | 37,716
Connecticut | 75,505 | 45,303
Delaware | 65,584 | 39,350
District of Col. | 62,281 | 37,369
Florida | 55,578 | 33,347
Georgia | 57,795 | 34,677
Hawaii | 66,402 | 39,841
Idaho | 47,703 | 28,622
Illinois | 66,356 | 39,814
Indiana | 58,519 | 35,111
Iowa | 58,075 | 34,845
Kansas | 57,195 | 34,317
Kentucky | 52,186 | 31,312
Louisiana | 49,446 | 29,668
Maine | 57,536 | 34,522
Maryland | 74,806 | 44,884
Massachusetts | 71,689 | 43,013
Michigan | 65,467 | 39,280
Minnesota | 66,677 | 40,006
Mississippi | 47,915 | 28,749
Missouri | 56,673 | 34,004
Montana | 50,966 | 30,580
Nebraska | 55,693 | 33,416
Nevada | 59,479 | 35,687
New Hampshire | 65,885 | 39,531
New Jersey | 75,425 | 45,255
New Mexico | 44,947 | 26,968
New York | 59,755 | 35,853
North Carolina | 56,115 | 33,669
North Dakota | 51,002 | 30,601
Ohio | 56,237 | 33,742
Oklahoma | 52,261 | 31,357
Oregon | 53,909 | 32,345
Pennsylvania | 59,546 | 35,728
Rhode Island | 64,614 | 38,768
South Carolina | 55,978 | 33,587
South Dakota | 52,246 | 31,348
Tennessee | 51,999 | 31,199
Texas | 53,291 | 31,975
Utah | 57,251 | 34,351
Vermont | 57,713 | 34,628
Virginia | 64,352 | 38,611
Washington | 62,618 | 37,571
West Virginia | 45,202 | 27,121
Wisconsin | 63,436 | 38,062
Wyoming | 55,624 | 33,374
Note—FFY 2002 covers the period of October 1, 2001 through September 30, 2002. The estimated median income for 4-person families living in the United States is $59,981 for FFY 2002. The estimates are effective for the Low Income Home Energy Assistance Program (LIHEAP) at any time between the date of this publication and October 1, 2001, or by the beginning of a LIHEAP grantee's fiscal year, whichever is later.
¹ In accordance with 45 CFR 96.85, each State's estimated median income for a 4-person family is multiplied by the following percentages to adjust for family size: 52% for one person, 68% for two persons, 84% for three persons, 100% for four persons, 116% for five persons, and 132% for six persons. For family sizes greater than six persons, add 3% for each additional family member and multiply the new percentage by the State's estimated median income for a 4-person family.
² Prepared by the Bureau of the Census from the March 2000 Current Population Survey, 1990 Decennial Census of Population and Housing, and 1999 per capita personal income estimates, by state, from the Bureau of Economic Analysis (BEA). In 1999, BEA revised its methodology in estimating per capita personal income estimates. BEA's revised methodology is reflected in the FFY 2002 state 4-person family median income estimates. For further information, contact the Housing and Household Economic Statistics Division at the Bureau of the Census (301-457-3243).

[FR Doc. 01-7112 Filed 3-21-01; 8:45 am]

BILLING CODE 4184-01-P